DEPARTMENT OF HEALTH AND HUMAN SERVICES

National Institutes of Health

State-of-the-Science Conference: Multivitamin/Mineral Supplements and Chronic Disease Prevention; Notice

Notice is hereby given of the National Institutes of Health (NIH) “State-of-the-Science Conference: Multivitamin/Mineral Supplements and Chronic Disease Prevention” to be held May 15-17, 2006, in the NIH Natcher Conference Center, 45 Center Drive, Bethesda, Maryland 20892. The conference will begin at 8:30 a.m. on May 15 and 16, and at 9 a.m. on May 17, and will be open to the public.

It is estimated that more than one-third of American adults take multivitamin/mineral (MVM) supplements regularly. Recommendations regarding supplement use from expert groups vary widely, as does the strength of the evidence supporting such guidelines. As more and more Americans seek strategies for maintaining good health and preventing disease, and as the marketplace offers an increasing number of products to fill that desire, it is important that consumers have the best possible information to inform their choices.

The Office of Dietary Supplements and the Office of Medical Applications of Research of the NIH will convene a State-of-the-Science Conference on Multivitamin/Mineral Supplements and Chronic Disease Prevention, May 15 to 17, 2006, in Bethesda, Maryland. The goal of the conference is to assess the evidence available on MVM use and outcomes for chronic disease prevention in adults and to make recommendations for future research. Specifically, the conference will explore the following key questions:

• What are the current patterns and prevalence of the public's use of MVM supplements?

• What is known about the dietary nutrient intake of MVM users versus non-users?

• What is the efficacy of single vitamin/mineral supplement use in chronic disease prevention?

• What is the efficacy of MVM in chronic disease prevention in the general population of adults?

• What is known about the safety of MVM for the generally healthy population?

• What are the major knowledge gaps and research opportunities regarding MVM use?

An impartial, independent panel will be charged with reviewing the available published literature in advance of the conference, including a systematic literature review commissioned through the Agency for Healthcare Research and Quality. The first day and a half of the conference will consist of presentations by expert researchers and practitioners and open public discussions. On Wednesday, May 17, the panel will present a statement of its collective assessment of the evidence to answer each of the questions above. The panel will also hold a press conference to address questions from the media. The draft statement will be published online later that day, and the final version will be released approximately six weeks later.

The primary sponsors of this meeting are the NIH Office of Dietary Supplements and the NIH Office of Medical Applications of Research.

Advance information about the conference and conference registration materials may be obtained from American Institutes for Research of Silver Spring, Maryland, by calling 888-644-2667, or by sending e-mail to consensus@mail.nih.gov. American Institutes for Research's mailing address is 10720 Columbia Pike, Silver Spring, MD 20901. Registration information is also available on the NIH Consensus Development Program Web site at http://consensus.nih.gov.

Please note: The NIH has recently instituted new security measures to ensure the safety of NIH employees and property. All visitors must be prepared to show a photo ID upon request. Visitors may be required to pass through a metal detector and have bags, backpacks, or purses inspected or x-rayed as they enter NIH buildings. For more information about the new security measures at NIH, please visit the Web site at http://www.nih.gov/about/visitorsecurity.htm.

Dated: March 20, 2006.
Raynard S. Kington,
Deputy Director, National Institutes of Health.

[FR Doc. E6-4437 Filed 3-27-06; 8:45 am]

BILLING CODE 4140-01-P